DEPARTMENT OF DEFENSE

Department of the Navy

Notice of Intent To Grant Exclusive Patent License; Visible Welding, LLC

AGENCY: Department of the Navy; DoD.

ACTION: Notice.

SUMMARY: The Department of the Navy hereby gives notice of its intent to grant a revocable, nonassignable, exclusive license in the United States to Visible Welding LLC, to practice the Government owned invention described in U.S. Patent No. 9,307,156: LONGWAVE INFRARED IMAGING OF A HIGH TEMPERATURE HIGH INTENSITY LIGHT SOURCE.

DATES: Anyone wishing to object to the grant of this license has fifteen (15) days from the date of this notice to file written objections along with supporting evidence, if any.

ADDRESSES: Written objections are to be filed with Carderock Division, Naval Surface Warfare Center, Code 00L, 9500 MacArthur Boulevard, West Bethesda, MD 20817-5700.

FOR FURTHER INFORMATION CONTACT: Joseph Teter Ph.D., Director, Technology Transfer Office, Carderock Division, Naval Surface Warfare Center, Code 00T, 9500 MacArthur Boulevard, West Bethesda, MD 20817-5700, telephone 301 227-4299.

(Authority: 35 U.S.C. 207, 37 CFR part 404)

Dated: October 12, 2017.
A.M. Nichols,
Lieutenant Commander, Judge Advocate General's Corps, U.S. Navy, Federal Register Liaison Officer.

[FR Doc. 2017-22576 Filed 10-17-17; 8:45 am]

BILLING CODE 3810-FF-P